SMALL BUSINESS ADMINISTRATION

[Disaster Declaration # 13907 and # 13908]

Georgia Disaster # GA-00058

AGENCY: U.S. Small Business Administration.

ACTION: Notice.

SUMMARY: This is a Notice of the Presidential declaration of a major disaster for Public Assistance Only for the State of Georgia (FEMA-4165-DR), dated 03/06/2014.

Incident: Severe Winter Storm

Incident Period: 02/10/2014 through 02/14/2014

Effective Date: 03/06/2014

Physical Loan Application Deadline Date: 05/05/2014

Economic Injury (EIDL) Loan Application Deadline Date: 12/08/2014

ADDRESSES: Submit completed loan applications to: U.S. Small Business Administration Processing, And Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: Notice is hereby given that as a result of the President's major disaster declaration on 03/06/2014, Private Non-Profit organizations that provide essential services of governmental nature may file disaster loan applications at the address listed above or other locally announced locations.

The following areas have been determined to be adversely affected by the disaster:

Primary Counties:

Baldwin, Bulloch, Burke, Butts, Candler, Carroll, Columbia, Coweta, Dade, Emanuel, Fayette, Fulton, Gilmer, Glascock, Hancock, Haralson, Heard, Jasper, Jefferson, Jenkins, Johnson, Jones, Lamar, Mcduffie, Meriwether, Monroe, Morgan, Newton, Pickens, Pike, Richmond, Screven, Spalding, Upson, Walker, Warren, Washington, Whitfield, Wilkes.

The Interest Rates are:

| Percent
For Physical Damage:
Non-Profit Organizations With Credit Available Elsewhere | 2.625
Non-Profit Organizations Without Credit Available Elsewhere | 2.625
For Economic Injury:
Non-Profit Organizations Without Credit Available Elsewhere | 2.625

The number assigned to this disaster for physical damage is 13907B and for economic injury is 13908B.

(Catalog of Federal Domestic Assistance Numbers 59002 and 59008)

Cynthia G. Pitts,
Acting Associate Administrator for Disaster Assistance.

[FR Doc. 2014-05851 Filed 3-17-14; 8:45 am]

BILLING CODE 8025-01-P